DEPARTMENT OF THE INTERIOR

Bureau of Land Management

[BLM_AK_FRN_MO4500181176]

Call for Nominations for the Alaska Resource Advisory Council

AGENCY: Bureau of Land Management, Interior.

ACTION: Notice of call for nominations.

SUMMARY: The purpose of this notice is to request public nominations for the Bureau of Land Management's (BLM) Alaska Resource Advisory Council (RAC) to fill two existing vacancies. The RAC provides advice and recommendations to the BLM on land use planning and management of the National System of Public Lands within its geographic area.

DATES: All nominations must be received no later than October 28, 2024.

ADDRESSES: Nominations and completed applications should be sent to Azure Hall, BLM Alaska State Office, 222 West 7th Avenue #13, Anchorage, AK 99513; phone: (907) 271-5960; email: ahall@blm.gov.

FOR FURTHER INFORMATION CONTACT: Emma Roach, BLM Alaska Communications Director, BLM Alaska State Office, 222 West 7th Avenue #13, Anchorage, AK 99513; phone: (907) 271-5960; email: eroach@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act. As required by the applicable regulations, RAC membership must be balanced and representative of the various interests concerned with the management of the public lands. The BLM regulations governing the operation of RACs are found at 43 CFR subpart 1784.

The BLM is seeking nominations for individuals in the following two categories:

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian Tribes within or adjacent to the area for which the RAC is organized; are employed as academicians in natural resource management or the natural sciences; or represent the affected public-at-large.

Individuals may nominate themselves or others. Nominees must be residents of the State of Alaska. The BLM will evaluate nominees based on their education, training, experience, and knowledge of the geographic area of the RAC. Nominees should demonstrate a commitment to collaborative resource decision-making.

The following must accompany all nominations:

—A completed RAC application, which can either be obtained through your local BLM office or online at: https://www.blm.gov/sites/default/files/docs/2022-05/BLM-Form-1120-19_RAC-Application.pdf.

—Letters of reference from represented interests or organizations; and

—Any other information that addresses the nominee's qualifications.

Simultaneous with this notice, BLM Alaska will issue an online announcement providing additional information for submitting nominations.

(Authority: 43 CFR 1784.4-1)

Steven Cohn,
BLM Alaska State Director.

[FR Doc. 2024-21954 Filed 9-25-24; 8:45 am]

BILLING CODE 4331-10-P